DEPARTMENT OF DEFENSE

Office of the Secretary of Defense

[Docket ID: DOD-2024-OS-0128]

Proposed Collection; Comment Request

AGENCY: Office of the Under Secretary of Defense for Personnel and Readiness (OUSD(P&R)), Department of Defense (DoD).

ACTION: 60-Day information collection notice.

SUMMARY: In compliance with the Paperwork Reduction Act of 1995, the Office of the Under Secretary of Defense for Personnel and Readiness, Department of Defense (DoD) announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by February 10, 2025.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Mailbox #24 Suite 05F16, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to the Military-Civilian Transition Office, 4800 Mark Center Drive, Suite 05E25, Alexandria, VA, 22311, Dr. Nathan D. Ainspan, Ph.D., Senior Research Psychologist, email: nathan.d.ainspan.civ@mail.mil, phone: (703) 647-9273.

SUPPLEMENTARY INFORMATION:

Title; Associated Form; and OMB Number: SkillBridge Application, OMB Control Number 0704-DSBP.

Needs and Uses: DoD's SkillBridge program is an opportunity for Service members to gain valuable civilian work experience through specific industry training, apprenticeships, or internships during their last 180 days of service. DoD SkillBridge connects transitioning Service members with industry partners in real-world job experiences. For Service members, SkillBridge provides an invaluable chance to work and learn in civilian career areas. For industry partners, SkillBridge is an opportunity to access and leverage the world's most highly trained and motivated workforce at no cost. Service members participating in DoD SkillBridge programs continue receiving their military compensation and benefits, while industry partners provide the civilian training and work experience. Some SkillBridge partners may offer skills training and employment opportunities for military spouses and veterans as well as transitioning Service members.

The authorities for SkillBridge are 10 United States Code section 1143 and DoDI 1322.29 (Jobs Training, Employment Skills Training, Apprenticeships, and Internships for Eligible Service Members. In addition, the proposed information collection addresses many of the recommendations made by the Government Accountability Office in its August 2024 report Better Collection and Analysis of Military Service Data Needed to Improve Oversight of the Skillbridge Program (GAO-24-107352).

DoD is applying for the OMB review of the Skillbridge Application. Organizations that are interested in becoming industry partners will download the application from the DoD Skillbridge website, complete the application, and submit it to DoD. The Department will review the application to determine if the applicant meets the established criteria, consents to the policies outlined in the application, and if DoD approves the application, contact the applicant, and establish the relationship. As part of their agreement with DoD, all Skillbridge partners are required to provide regular updates on their Service member participants (e.g., how many Service members applied to them, how many were accepted into the organization, and if they were offered employment at the end of the program).

Affected Public: Federal, state, and local agencies, private business or other for-profit; non-profit organizations, individuals, or households.

Annual Burden Hours: 300.

Number of Respondents: 1,200.

Responses per Respondent: 1.

Annual Responses: 1,200.

Average Burden per Response: 15 minutes.

Frequency: Once.

All the information collection will be executed with information technology. All records are stored in an electronic format retrievable by approved participating organizations directly via a token sign in, and/or electronically emailed to approved participants.

Dated: December 5, 2024.
Stephanie J. Bost,
Alternate OSD Federal Register Liaison Officer, Department of Defense.

[FR Doc. 2024-28973 Filed 12-9-24; 8:45 am]

BILLING CODE 6001-FR-P